DEPARTMENT OF TRANSPORTATION

Federal Aviation Administration

Notice of Intent To Rule on Application 10-06-C-00-BOS To Impose and Use the Revenue From a Passenger Facility Charge (PFC) at General Edward Lawrence Logan International Airport, East Boston, MA

AGENCY: Federal Aviation Administration (FAA), Department of Transportation (DOT).

ACTION: Request for comments, notice of Intent to Rule on a PFC application.

SUMMARY: This document requests public comment on the supplementary material provided by the applicant, Massachusetts Port Authority (Massport), in response to the FAA's requests for clarification of its application to impose and use a PFC at General Edward Lawrence Logan International Airport, East Boston, Massachusetts.

The FAA received additional documentation and information in support of Massport's PFC application, received April 15, 2010. The FAA is soliciting public comment on this supplementary material. Once received and following the FAA's review of any comments submitted pursuant to this notice, a Final Agency Decision is anticipated either approving or disapproving the application, in whole or in part, within 60 days of the date of this Notice. The ruling will be issued under the provisions of the 49 U.S.C. 40117 and 14 Code of Federal Regulations part 158 (14 CFR part 158).

DATES: Comments must be received on or before February 24, 2011.

ADDRESSES: Comments on this supplemental material may be mailed or delivered in triplicate to the FAA at the following address: Ms. Priscilla Scott, PFC Program Manager, Federal Aviation Administration, Airports Division, 12 New England Executive Park, Burlington, Massachusetts 01803.

In addition, one copy of any comments submitted to the FAA must be mailed or delivered to Mr. Thomas Kinton, CEO and Executive Director of the Massachusetts Port Authority at the following address: One Harborside Drive, Suite 200S, East Boston, Massachusetts 02128.

FOR FURTHER INFORMATION CONTACT: Priscilla Scott, PFC Program Manager, Federal Aviation Administration, Airports Division, 12 New England Executive Park, Burlington, Massachusetts 01803, (781) 238-7614. The application may be reviewed in person at 16 New England Executive Park, Burlington, Massachusetts. Please call to set up an appointment.

In addition, any person may, upon request, inspect the application, notice and other documents germane to the application in person at One Harborside Drive, Suite 200S, East Boston, Massachusetts 02128. Please contact Massport at (617) 561-1600 to set up an appointment.

SUPPLEMENTARY INFORMATION: The FAA invites public comment on the additional documentation provided by the applicant in response to the FAA's requests for clarification in support of Massport's application to impose and use a PFC at Boston-Logan International Airport,

The supplemental material includes all documentation provided to the FAA by April 15, 2010, which was the date of Massport's submission of its PFC application for collection and use of PFC revenue for various projects at Boston-Logan International Airport. The FAA will issue a decision on Massport's PFC application under the provisions of the 49 U.S.C. 40117 and 14 CFR part 158.

Background: On April 15, 2010, Massport submitted its application to impose and use a PFC at Boston-Logan International Airport

On May 25, 2010, the FAA sent a letter to Massport notifying it that the PFC application was substantially complete.

The FAA's decision making process on PFC applications may include publishing a notice in the Federal Register informing the public of the FAA's intention to rule on the pending application and inviting public comment on that application. Consideration is given to all comments submitted pursuant to the Federal Register Notice during FAA's deliberations on the application. The FAA responds to the substantive comments in its Final Agency Decision.

In conjunction with rendering its decisions on PFC applications, the FAA determines the PFC eligibility for each project, and whether the eligible projects are adequately justified. In reviewing the application submitted by Massport, the FAA discovered that further clarification would be helpful to make its required determinations.

Accordingly, the FAA asked Massport to clarify certain information on the eligibility of costs related to Project #42—Terminal “A” Development.

In response to the FAA's requests, Massport provided supplemental material in the form of e-mails, airline lease documents, written discussions of Massport's lease practices, and rates and charges information which includes facility rent calculations indicating the uses of PFC revenues.

Issued in Burlington, Massachusetts on January 6, 2011.
Bryon H. Rakoff,
Manager, Planning and Program Branch, Airports Division, New England Region.

[FR Doc. 2011-1411 Filed 1-24-11; 8:45 am]

BILLING CODE P